DEPARTMENT OF JUSTICE

Office of Justice Programs

Agency Information Collection Activities: Proposed Collection; Comment Request

ACTION: Notice of information collection under review; reinstatement, without change, of a previously approved collection for which approval has expired; Edward Byrne Memorial State and Local Law Enforcement Assistance Program.

The Department of Justice, Office of Justice Programs, has submitted the following information collection request for review and clearance in accordance with the Paperwork Reduction Act of 1995. This proposed information collection is published to obtain comments from the public and affected agencies. Comments are encouraged and will be accepted for sixty days until June 6, 2003.

If you have additional comments, suggestions, or need a copy of the proposed information collection instrument with instructions or additional information, please contact Camille Cain, (202) 514-6015, Bureau of Justice Assistance, Office of Justice Programs, U.S. Department of Justice, 810 7th Street, NW., Washington, DC 20531.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information:

(1) Type of information collection: Reinstatement, Without change, of a Previously Approved Collection for Which Approval Has Expired.

(2) The title of the form/collection: Edward Byrne Memorial State and Local Law Enforcement Assistance Program.

(3) The agency form number, if any, and the applicable component of the Department sponsoring the collection: OJP Form 4061/6.

(4) Affected public who will be asked or required to respond, as well as a brief abstract: Primary: State, Local or Tribal. Other: none. The Bureau of Justice Assistance is requesting the Office of Management and Budget approval for a collection of information from the State offices which administer formula grant awards under the provisions of Subtitle C-State and Local Law Enforcement Assistance Act of the Anti-Drug Abuse Act of 1988, as amended by the Crime Control and the Immigration Acts 1990. This guidance document consolidates guidance related to the Formula Grant Program which has been provided to the States, including guidance which has been issued under separate cover to address specific Congressional requirements.

(5) An estimate of the total number of respondents and the amount of time estimated for an average respondent to respond/reply: It is estimated that 398 respondents will complete an application for benefits.

(6) An estimate of the total public burden (in hours) associated with the collection: The estimated total annual burden hours associated with this information collection are 26,829.

If additional information is required contact: Mrs. Brenda E. Dyer, Deputy Clearance Officer, United States Department of Justice, Information Management and Security Staff, Justice Management Division, Suite 1600, 601 D Street, NW., Washington, DC 20530, or via facsimile at (202) 514-1590.

Dated: April 1, 2003.
Brenda E. Dyer,
Department Deputy Clearance Officer, United States Department of Justice.

[FR Doc. 03-8383 Filed 4-4-03; 8:45 am]

BILLING CODE 4410-18-M